DEPARTMENT OF TRANSPORTATION

Research & Innovative Technology Administration

[Docket ID Number RITA 2008-0002]

Agency Information Collection; Activity Under OMB Review; Report of Passengers Denied Confirmed Space

AGENCY: Research & Innovative Technology Administration (RITA), Bureau of Transportation Statistics (BTS), DOT.

ACTION: Notice.

SUMMARY: In compliance with the Paperwork Reduction Act of 1995 (44 U.S.C. 3501 et seq.), this notice announces that the Information Collection Request (ICR) abstracted below is being forwarded to the Office of Management and Budget (OMB) for re-instatement of an expired collection. The ICR describes the nature of the information collection and its expected burden. The Federal Register Notice with a 60-day comment period soliciting comments on the following collection of information was published on April 16, 2010 (75 FR 21717).

DATES: Written comments should be submitted by August 18, 2010.

FOR FURTHER INFORMATION CONTACT: Bernie Stankus, Office of Airline Information, RTS-42, Room E36-303, RITA, BTS, 1200 New Jersey Avenue, SE., Washington, DC 20590-0001, Telephone Number (202) 366-4387, Fax Number (202) 366-3383 or E-mail bernard.stankus@dot.gov.

Comments: Send comments to the Office of Information and Regulatory Affairs, Office of Management and Budget, 725-17th Street, NW., Washington, DC 20503, Attention: RITA/BTS Desk Officer.

SUPPLEMENTARY INFORMATION:

OMB Approval No. 2138-0018

Title: Report of passengers Denied Confirmed Space.

Form No.: Form 251.

Type Of Review: Re-instatement of an expired collection.

Respondents: Large certificated air carriers that account for at least 1 percent of domestic scheduled passenger revenues.

Number of Respondents: 18.

Total Number of Annual Responses: 72.

Estimated Time per Response: 90 hours.

Total Annual Burden: 960.

Needs and Uses: BTS Form 251 is a one-page report on the number of passengers denied seats either voluntarily or involuntarily, whether these bumped passengers were provided alternate transportation and/or compensation, and the amount of the payment. U.S. air carriers that account for at least 1 percent of domestic scheduled passenger service must report all operations with 30 seat or larger aircraft that depart a U.S. airport. Carriers do not report data from inbound international flights because the protections of 14 CFR Part 250 Oversales do not apply to these flights. The report allows the Department to monitor the effectiveness of its oversales rule and take enforcement action when necessary. While the involuntarily denied-boarding rate has decreased from 4.38 per 10,000 passengers in 1980 to 1.09 for the quarter ended December 2009, the rate is up from the 0.89 attained for the nine month period that ended on September 30, 2005. The publishing of the carriers' individual denied boarding rates has negated the need for more intrusive regulation. The rate of denied boarding can be examined as a continuing fitness factor. This rate provides an insight into a carrier's customer service practices. A rapid sustained increase in the rate of denied boarding may indicate operational difficulties. Because the rate of denied boarding is released quarterly, travelers and travel agents can select carriers with lower incidences of bumping passengers. This information is available in the Air Travel Consumer Report at: http://airconsumer.ost.dot.gov/reports/index.htm. The Air Travel Consumer Report is also sent to newspapers, magazines, and trade journals. Without Form 251, determining the effectiveness of the Department's oversales rule would be impossible.

The Confidential Information Protection and Statistical Efficiency Act of 2002 (44 U.S.C. 3501 note), requires a statistical agency to clearly identify information it collects for non-statistical purposes. BTS hereby notifies the respondents and the public that BTS uses the information it collects under this OMB approval for non-statistical purposes including, but not limited to, publication of both Respondent's identity and its data, submission of the information to agencies outside BTS for review, analysis and possible use in regulatory and other administrative matters.

Anne Suissa,
Director, Office of Airline Information.

[FR Doc. 2010-17517 Filed 7-16-10; 8:45 am]

BILLING CODE 4910-HY-P